DEPARTMENT OF TRANSPORTATION

Pipeline and Hazardous Materials Safety Administration

[Docket ID PHMSA-2010-0084]

Pipeline Safety: Workshop on Distribution Pipeline Construction

AGENCY: Pipeline and Hazardous Materials Safety Administration (PHMSA), DOT.

ACTION: Notice of Workshop.

SUMMARY: PHMSA is conducting a workshop cosponsored by the National Association of Pipeline Safety Representatives (NAPSR) on new distribution pipeline construction. The workshop will allow stakeholders in the pipeline safety community to learn about and discuss construction issues and current practices in natural gas distribution pipeline construction management and quality control. This workshop will address common issues, focusing on the results of Federal and state regulators' perspectives, and explore potential solutions.

DATES: The workshop will be held on April 20, 2010. Name badge pick up and on-site registration will be available starting at 7:30 a.m., with the workshop taking place from 8:30 a.m. until approximately 5 p.m. Refer to the meeting Web site for updated agenda and times at https://primis.phmsa.dot.gov/meetings/Mtg63.mtg. Please note that all workshop presentations will be available on the meeting Web site within 30 days following the workshop.

ADDRESSES: The workshop will be held at the Hilton St. Louis at the Ballpark, 1 South Broadway, St. Louis, MO 63102. Hotel reservations under the “U.S. DOT Distribution Workshop” room block for the nights of April 19 and 20, 2010, can be made at 1-877-845-7354. A daily base rate of $110.00 is available. The meeting room will be posted at the hotel on the day of the workshop.

FOR FURTHER INFORMATION CONTACT: Vincent Holohan at (202) 366-1933, or by e-mail at vincent.holohan@dot.gov.

SUPPLEMENTARY INFORMATION: Registration: Members of the public may attend this free workshop. To help assure that adequate space is provided, all attendees are encouraged to register for the workshop at https://primis.phmsa.dot.gov/meetings/Mtg63.mtg. Hotel reservations must be made by contacting the hotel directly.

Comments: Members of the public may also submit written comments, either before or after the workshop. Comments should reference Docket ID PHMSA-2010-0084. Comments may be submitted in the following ways:

• E-Gov Web Site: http://www.regulations.gov. This site allows the public to enter comments on any Federal Register notice issued by any agency. Follow the instructions for submitting comments.

• Fax: 1-202-493-2251.

• Mail: Docket Management System, U.S. Department of Transportation, 1200 New Jersey Avenue, SE., Room W12-140, Washington, DC 20590.

• Hand Delivery: DOT Docket Management System, Room W12-140, on the ground floor of the West Building, 1200 New Jersey Avenue, SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov. Note: Comments will be posted without changes or edits to http://www.regulations.gov including any personal information provided. Please see the Privacy Act heading in the Regulatory Analyses and Notices section of the SUPPLEMENTARY INFORMATION for additional information.

Privacy Act Statement: Anyone may search the electronic form of all comments received for any of our dockets. You may review DOT's complete Privacy Act Statement in the Federal Register published April 11, 2000 (65 FR 19477).

Information on Services for Individuals with Disabilities: For information on facilities or services for individuals with disabilities, or to request special assistance at the meeting, please contact Vincent Holohan at (202) 366-1933, or by e-mail at vincent.holohan@dot.gov by April 8, 2010.

Issue Description: Last year, PHMSA, NAPSR, the Federal Energy Regulatory Commission, and the National Energy Board of Canada jointly sponsored a construction workshop focusing on transmission pipeline construction issues. This workshop will focus on natural gas distribution construction. Natural gas distribution pipelines are subject to a unique subset of construction-related risks and issues, as compared to transmission and other pipelines. Federal and state regulator inspections of distribution pipeline construction projects occasionally observe patterns of similar findings. Poor construction quality has led to short and long term pipeline integrity issues and risk to public safety. The workshop will include presentations highlighting areas of concern based on inspection results and industry presentations describing practices and possible solutions. The panel format will offer the opportunity for dialogue and sharing of ideas for solutions to avoid construction quality issues.

PHMSA developed this workshop in collaboration with NAPSR, state partners, and the American Gas Association to inform the public and review lessons learned from inspections, and to improve distribution pipeline construction practices. This workshop will focus solely on natural gas distribution pipelines.

Preliminary Workshop Agenda

The workshop will include:

(1) Federal and state observations related to inspection findings.

(2) Distribution materials, Quality Assurance/Quality Control, related best practices.

(3) Construction Issues, Joining, Horizontal Directional Drill/Boring, Excavation Damage.

(4) Discussions of solutions.

Refer to the meeting Web site for a more detailed agenda: https://primis.phmsa.dot.gov/meetings/Mtg63.mtg.

Issued in Washington, DC on March 15, 2010.
Alan K. Mayberry,
Deputy Associate Administrator for Field Operations.

[FR Doc. 2010-6129 Filed 3-18-10; 8:45 am]

BILLING CODE 4910-60-P